DEPARTMENT OF HEALTH AND HUMAN SERVICES

Centers for Disease Control and Prevention

[Program Announcement 02109]

War-Related Mental Health and Trauma Assessment Program; Notice of Availability of Funds

A. Purpose

The Centers for Disease Control and Prevention (CDC) announces the availability of fiscal year (FY)2002 funds for cooperative agreements for War-Related Mental Health & Trauma Assessment program was published on July 8, 2002, Volume 67, Number 130, pages 45121-45123. The notice is amended as follows: On page 45121, column 2, paragraph “D. Availability of Funds”, the following change is made: It is expected that the awards will begin on or about September 1, 2002.

Dated: July 16, 2002.
Sandra R. Manning,
Director, Procurement and Grants Office, Center for Disease Control and Prevention.

[FR Doc. 02-18358 Filed 7-19-02; 8:45 am]

BILLING CODE 4163-18-P